BUREAU OF CONSUMER FINANCIAL PROTECTION

12 CFR Parts 1024 and 1026

[Docket No. CFPB-2013-0010]

RIN 3170-AA37

Amendments to the 2013 Mortgage Rules Under the Real Estate Settlement Procedure Act (Regulation X) and the Truth in Lending Act (Regulation Z)

Correction

In rule document 2013-16962, appearing on pages 44686-44728 in the issue of Wednesday, July 24, 2013, make the following correction:

§ 1026.43 Minimum Standards for Transactions Secured by a Dwelling [Corrected]

On page 44727, in the third column, on the eleventh line from the bottom, “eligibility requirements for Fannie Mae products and loan terms” should read “The loan still meets eligibility requirements for Fannie Mae products and loan terms.”

[FR Doc. C1-2013-16962 Filed 7-29-13; 8:45 am]

BILLING CODE 1505-01-D